DEPARTMENT OF THE TREASURY

Office of the Secretary

Notice of Call for Redemption: 13⅞ Percent Treasury Bonds of 2006-11, Washington, DC

1. As of January 13, 2006, public notice is hereby given that all outstanding 13⅞ percent Treasury Bonds of 2006-11 (CUSIP No. 912810 CV 8) dated May 15, 1981, due May 15, 2011, are hereby called for redemption at par on May 15, 2006, on which date interest on such bonds will cease.

2. Full information regarding the presentation and surrender of such bonds held in coupon and registered form for redemption under this call will be found in Department of the Treasury Circular No. 300 dated March 4, 1973, as amended (31 CFR part 306), and from the Definitives Section of the Bureau of the Public Debt (telephone (304) 480-7936), and on the Bureau of the Public Debt's Web site, http://www.publicdebt.treas.gov.

3. Redemption payments for such bonds held in book-entry form, whether on the books of the Federal Reserve Banks or in Treasury Direct accounts, will be made automatically on May 15, 2006.

Donald V. Hammond,
Fiscal Assistant Secretary.

[FR Doc. 06-360 Filed 1-13-06; 8:45 am]

BILLING CODE 4810-40-M